DEPARTMENT OF THE INTERIOR

Bureau of Land Management

[UT-030-00-1610-00]

Grand Staircase-Escalante National Monument Approved Management Plan and Record of Decision

AGENCY: Bureau of Land Management, Interior.

ACTION: Notice of Availability.

SUMMARY: In accordance with the National Environmental Policy Act (NEPA) of 1969 (40 CFR 1550.2), and the Federal Land Policy and Management Act of 1976, the Department of the Interior, Bureau of Land Management (BLM), Grand Staircase-Escalante National Monument (GSENM) provides notice of the availability of the Approved Management Plan and Record of Decision (ROD) for GSENM. The Approved Management Plan/ROD was signed by the Secretary of the Interior on November 15, 1999 and will be in effect upon publication of this notice. This Approved Management Plan/ROD supersedes the existing Vermilion Management Framework Plan (MFP), Escalante MFP, and the Paria MFP and other related documents for managing BLM-administered lands within GSENM. GSENM is responsible for management of BLM-administered lands and minerals within the boundaries of the Monument in Kane and Garfield Counties, Utah and is administratively responsible for approximately 1,870,800 acres. The major management emphases in the Approved Plan includes: (1) Management of uses to protect and prevent damage to Monument resources. (2) Facilitation of appropriate scientific research activities. (3) Designation of a transportation system for the Monument and prohibition of all cross-country vehicle travel. (4) Identification of protection measures for special status plant and animal species, riparian areas, and other special resources. (5) Identification of measures to ensure water is available for the proper care and management of objects in the Monument. (6) Accommodation of recreation by providing minor recreation facilities for visitors. Major visitor facilities will be located in surrounding communities in order to protect resources and promote economic development in the communities. (7) Establishment of a Monument Advisory Committee (chartered under the Federal Advisory Committee Act) to advise managers via an adaptive management strategy for implementing the Plan. (8) Commitments to work with local and State governments, Native American Indian tribes, organizations, and Federal agencies to manage lands or programs for mutual benefit consistent with other Plan decisions and objectives. (9) Recommendation of approximately 252 miles of river segments as suitable for designation as Wild and Scenic Rivers (WSR).

ADDRESSES: Copies of the Approved Management Plan/ROD are available upon request from the GSENM Office, 180 W 300 N, Kanab, UT 84741, (435) 644-4300; Information Access Center (4th Floor), Utah BLM State Office, 324 S. State Street, Salt Lake City, Utah, 84111; Cedar City District Office, 176 East DL Sargent Drive, Cedar City, Utah 84720; GSENM Office, Escalante, Utah 84726; or on the Internet at http://www.ut.blm.gov/monument.

FOR FURTHER INFORMATION CONTACT: Kate Cannon, Monument Manager, GSENM, 180 W 300 N, Kanab, UT 84741 or by telephone at (435) 644-4300.

SUPPLEMENTARY INFORMATION: The GSENM Approved Management Plan/ROD is similar to the Proposed Management Plan and Final Environmental Impact Statement (PMP/FEIS) that was completed in July, 1999. The Federal Register notice for the PMP/FEIS was dated July 29, 1999, Volume 64, Number 145, Pages 41129-41130.

The following modifications to the Proposed Plan are a result of protests BLM received to the Proposed Plan or as a result of recommendations made during the Governor's consistency review. (1) The Proposed Plan stated that recreation allocations would not be used in the Frontcountry Zone since it is the focal point for visitation. This decision has been modified to allow for allocations in the Frontcountry Zone in limited circumstances where other tools to protect resources prove ineffective. Since the Frontcountry Zone is the focal point for visitation, social encounters would not trigger such action. (2) The fuelwood cutting policy has been revised to clarify access provisions for this activity. As stated in the Proposed Plan, access off of designated routes will generally be allowed within 50 feet of the designated route, in designated fuelwood cutting areas. However, because fuelwood cutting is controlled by a permit and permits are issued to further overall management objectives, the BLM could authorize access on administrative routes and, in some cases, in areas more than 50 feet away from designated routes. These areas/provisions would be delineated in the permit prior to its issuance. (3) The Wildlife Services (Animal Damage Control) decisions in the Plan were clarified to emphasize that such provisions do not diminish the responsibility and authority of the State of Utah for management of fish and wildlife as required by the Proclamation. The provisions in the Plan apply to the operations of the Animal and Plant Health Inspection Service (Wildlife Services) agency and are taken under the terms of the National agreement between the BLM and Wildlife Services, which states that “Animal and Plant Health Inspection Service (APHIS)—Animal Damage Control (ADC) shall conduct activities on BLM lands in accordance with APHIS—ADC policies, wildlife damage management plans, applicable State and Federal laws and regulations, and consistent with BLM Resource or Management Framework Plans.” Control actions taken by the State of Utah, or actions taken under State law by private citizens, are not affected by this provision. (4) The WSR provisions in the Plan have been clarified with respect to the management of streams found suitable for recommendation to the National Wild and Scenic Rivers System (NWSRS). Streams recommended as suitable will be managed for protection of the resources associated with the stream. Such action will not entail any additional State water rights and will not result in a Federal reserved water right unless and until the Congress acts to officially designate the stream or stream segment as part of the NWSRS. Upon such designation, if any, the Federal reserved water right thus established would, by law, be established with the priority date of the designation and would be junior to all preexisting water rights, in accordance with the existing State priority. Senior rights in any stream designated would be unaffected. In addition, if an agreement on water is reached between the BLM and the State of Utah similar to the agreement reached with Zion National Park, or if any other water agreement is reached with the State, segments of the rivers determined suitable for WSR designation in this Plan would be managed in accordance with this agreement. (5) The utility rights-of-way and water provisions in the Plan were modified with regard to the Town of Henrieville's culinary water supply, because the Town accesses upstream lands within the Monument for its culinary water. There is an existing small-scale diversion of groundwater out of the Monument for domestic water supply for Henrieville.

The Plan does not prohibit the continuation of this diversion, nor its expansion, if necessary, to meet the municipal needs of population growth in Henrieville. Any proposed new groundwater diversion to meet Henrieville's municipal needs could be approved consistent with the Plan if the BLM and the State water engineer complete a joint analysis to determine that such development would not adversely impact springs or other water resources within the Monument, and the BLM completes the required NEPA analysis. Exceptions could be considered for other local community culinary needs if the applicant could demonstrate that the diversion of water will not damage water resources within the Monument or conflict with the objectives outlined in the Plan. (6) During the protest period, several requests were made to modify decisions for specific routes. Every route mentioned was reviewed and reevaluated by the BLM. The following modifications were made as a result of this review: (a) Grand Bench route (Route 262, approximately 3 miles)—will be open to the public for street legal motorized vehicle use to access the open route on Glen Canyon National Recreation Area (GCNRA) and associated destinations. (b) Sooner Rocks route (approximately 1 mile)—will be open to the public for street legal motorized vehicle use to access the camping destinations at Sooner Rocks. (c) Chimney Rock route (approximately 3 miles)—will be open to the public for street legal motorized vehicle use to access the destination of Chimney Rock. (d) Allen Dump route (off of the Egypt route, approximately 2 miles)—will be open to the public to GCNRA boundary for street legal motorized vehicle use. This route will be open to allow the public to access the National Park Service trailhead on GCNRA. (e) Timber Mountain loop (approximately 7 miles)—a loop off of the Timber Mountain road will be open to the public for motorized use, including all terrain vehicles (ATVs). This is consistent with the desire to provide appropriate “loop” ATV routes in the Outback Zone. (f) Horse Canyon (approximately 1 mile)—a mapping error was corrected to show the route open to motorized use up to the choke point in the canyon. The remainder of the route will continue to be available for administrative use only.

The Grand Bench route, the Sooner Rocks route, the Allen Dump route, and the Horse Canyon route were identified as open to administrative use only in the Proposed Plan. The Chimney Rock route and the Timber Mountain loop were not identified for motorized use in the Proposed Plan, but will now be open as described above. The discussion of R.S. 2477 assertions in footnote 1 of Chapter 2 of the Approved Plan has also been clarified to emphasize that nothing in the Plan extinguishes any valid existing rights-of-way in GSENM. Nothing in this Plan alters in any way any legal rights the Counties of Garfield and Kane or the State of Utah has to assert and protect R.S. 2477 rights, and to challenge in Federal court, or any other appropriate venue, any BLM road closures that they believe are inconsistent with their rights. (7) A clarification has been made that authorizations for overnight camping and exceptions to group size limits could be provided for in valid grazing permits if the activity does not involve outfitter and guide operations or special events. These provisions may be necessary for the proper operation of a valid grazing permit and are more appropriately authorized within the terms of that permit rather than in recreational visitor permits. Campfire restrictions and other zone provisions will apply. (8) As in the Proposed Plan, new water developments are restricted in the Approved Plan to the following purposes: for better distribution of livestock when deemed to have an overall beneficial effect on Monument resources or to restore or manage native species or populations. The Proposed Plan also stated that such developments could be done “only when there is no other means to achieve the above objectives.” For clarification purposes, this wording has been modified in the Approved Plan to state that developments could be done when “a NEPA analysis determines this tool to be the best means of achieving the above objectives.” (9) Filming provisions have been changed from allowing filming, by permit, that meets the “minimum impact” standards to allowing filming, by permit, if it complies with zone requirements and other Plan provisions. The zone requirements have restrictions that are similar to the minimum impact standards, and thus are the appropriate means of managing filming within the Monument. This treats filming similarly to other activities with similar resource impacts.

Wild and Scenic Rivers

Through this planning effort approximately 252 miles of river segments have been determined suitable and will be recommended for Congressional designation into the NWSRS. The suitable river segments include: Escalante River 1, 2, 3; Harris Wash; Lower Boulder Creek; Slickrock Canyon; Lower Deer Creek 1, 2; The Gulch 1, 2, 3; Steep Creek; Lower Sand Creek and tributary Willow Patch Creek; Mamie Creek and west tributary; Death Hollow Creek; Calf Creek 1, 2, 3; Twenty-five Mile Wash; Upper Paria River 1, 2; Lower Paria River 1, 2; Deer Creek Canyon; Snake Creek; Hogeye Creek; Kitchen Canyon; Starlight Canyon; Lower Sheep Creek; Hackberry Creek; Lower Cottonwood Creek; and Buckskin Gulch.

Transportation and Access

The Approved Plan designates the route system for the Monument. Cross-country motorized travel will be prohibited in accordance with 43 CFR 8340 Off-Road Vehicle (OHV) regulations. Vehicles may pull off routes no more than 50 feet for parking and camping where allowed. No off-highway vehicle (OHV/ATV) play areas will be designated in the Monument. Use of bicycles is limited to designated routes and cross-country travel is not allowed. Street legal motorized vehicles, including four-wheel-drive and mechanized vehicles (including bicycles), will be allowed on approximately 908 miles of routes designated open. Non-street legal ATVs and dirt bikes will be allowed on approximately 553 miles of the 908 miles of routes designated open to street legal vehicles. Non-street legal all-terrain vehicles (ATVs) and dirt bikes will be restricted to those routes designated as open for their use.

The Director's office has issued final decisions, dismissing or resolving, each of the 111 protests received, thus allowing for immediate implementation of the Approved Management Plan.

Sally Wisely,
State Director, Utah.

[FR Doc. 00-4726 Filed 2-28-00; 8:45 am]

BILLING CODE 4310-DQ-P